DEPARTMENT OF COMMERCE

International Trade Administration

[A-583-854]

Certain Steel Nails From Taiwan: Partial Rescission of Antidumping Duty Administrative Review; 2019-2020

AGENCY: Enforcement and Compliance, International Trade Administration, Department of Commerce.

SUMMARY: The Department of Commerce (Commerce) is rescinding the administrative review, in part, of the antidumping duty order on certain steel nails from Taiwan for the period July 1, 2019 through June 30, 2020.

DATES: Applicable October 15, 2020.

FOR FURTHER INFORMATION CONTACT: Irene Gorelik, AD/CVD Operations, Office VIII, Enforcement and Compliance, International Trade Administration, Department of Commerce, 1401 Constitution Avenue NW, Washington, DC 20230; telephone: (202) 482-6905.

SUPPLEMENTARY INFORMATION:

Background

On September 3, 2020, based on timely requests for review by Mid Continent Steel & Wire, Inc. (the petitioner), a domestic producer and interested party ¹ and nine Taiwanese companies,² Commerce published in the Federal Register a notice of initiation, covering 141 companies, of an administrative review of the antidumping duty order on certain steel nails from Taiwan covering the period July 1, 2019 through June 30, 2020.³

¹ See Petitioner's Letter, “Request for Administrative Review,” dated July 31, 2020. As the petitioner's request included three instances of duplicated company names, Commerce only counted the duplicated company names one time upon initiation, with the exception of Yu Chi Hardware Co., Ltd. which the petitioner listed twice and was also inadvertently listed twice in the Initiation Notice. See Initiation of Antidumping and Countervailing Duty Administrative Reviews, 85 FR 54983 (September 3, 2020) (Initiation Notice).

² See Letter, “Administrative Review Request,” dated July 31, 2020, collectively from: Liang Chyuan Industrial Co., Ltd., Romp Coil Nail Industries Inc., UJL Industries Co., Ltd., Hor Liang Industrial Corp., Yu Chi Hardware Co., Ltd., Trim International Inc., China Staple Enterprise Corporation, Hoyi Plus Co., Ltd., and Zon Mon Co., Ltd.

³ See Initiation Notice.

On September 21, 2020, the petitioner timely withdrew its request for administrative review for all companies originally requested, except for one company, Create Trading Co., Ltd.⁴ However, because eight of the companies withdrawn by the petitioner also self-requested an administrative review, and those companies have not withdrawn their review requests, we will not rescind the review with respect to those eight companies.⁵ Apart from the aforementioned eight companies, no other parties requested review of the companies withdrawn by the petitioner. Finally, we note that the petitioner did not request review of Hoyi Plus Co., Ltd., a ninth company that also self-requested a review. Therefore, only 10 companies remain for which all requests for review have not been withdrawn at this time.

⁴ See Petitioner's Letter, “Withdrawal of Request for Administrative Reviews,” dated September 21, 2020.

⁵ Those eight companies are: (1) China Staple Enterprise Corporation; (2) Hor Liang Industrial Corp.; (3) Liang Chyuan Industrial Co., Ltd.; (4) Romp Coil Nail Industries Inc.; (5) Trim International Inc.; (6) UJL Industries Co., Ltd.; (7) Yu Chi Hardware Co., Ltd.; (8) Zon Mon Co., Ltd.

Partial Rescission of Review

Pursuant to 19 CFR 351.213(d)(1), Commerce will rescind an administrative review, in whole or in part, if the party that requested the review withdraws its request within 90 days of the publication of the notice of initiation of the requested review. Because all requests for administrative review of the 130 companies listed in the Appendix were withdrawn by the petitioner within 90 days of the date of publication of the Initiation Notice, and no other interested party requested a review of these 130 companies, Commerce is rescinding this review with respect to these companies in accordance with 19 CFR 351.213(d)(1). The administrative review remains active with respect to the following 10 companies: China Staple Enterprise Corporation, Create Trading Co., Ltd., Hor Liang Industrial Corp., Hoyi Plus Co., Ltd., Liang Chyuan Industrial Co., Ltd., Romp Coil Nail Industries Inc., Trim International Inc., UJL Industries Co., Ltd., Yu Chi Hardware Co., Ltd., and Zon Mon Co., Ltd.

Assessment

Commerce will instruct U.S. Customs and Border Protection (CBP) to assess antidumping duties on all appropriate entries at a rate equal to the cash deposit of estimated antidumping duties required at the time of entry, or withdrawal from warehouse, for consumption, during the period July 1, 2019 through June 30, 2020, in accordance with 19 CFR 351.212(c)(1)(i). Commerce intends to issue appropriate assessment instructions to CBP 15 days after the publication of this notice in the Federal Register, if appropriate.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Date: October 8, 2020.
James Maeder,
Deputy Assistant Secretary for Antidumping and Countervailing Duty Operations.

Appendix

Companies Rescinded From Review

1. A Jax Enterprises Ltd.

2. A Jax International Company Ltd.

3. AA Freight Inc.

4. ABS Metal Industry Corp.

5. Advanced Global Sourcing Ltd.

6. Alishan International Group Co., Ltd.

7. Apex Fastener International, Co., Ltd.

8. Aplus Pneumatic Corp.

9. A-Stainless International Co., Ltd.

10. Astrotech Steels Private Ltd.

11. Autolink International Co., Ltd.

12. Bestwell International Corp.

13. Bon Voyage Logistics Inc.

14. Bonuts Hardware Logistics Co., Ltd.

15. Bulls Technology Co., Ltd.

16. C.H. Robinson Freight Services

17. Canatex Industrial Co., Ltd.

18. Cata Co. Ltd.

19. Chaen Wei Corporation

20. Channg Chin Industry Corp.

21. Charng Yu Industrial Company Ltd.

22. Cheng CH International Co., Ltd.

23. Chia Da Fastener Co. Ltd.

24. China International Freight Co., Ltd.

25. China Mast Forwarders Co., Ltd.

26. China Sea Forwarders Co., Ltd.

27. Chite Enterprises Co., Ltd.

28. Clinch Nutsandstuds Co., Ltd.

29. Cornwall Enterprise Co., Ltd.

30. Co-Wealth Enterprise Co., Ltd.

31. Crane Worldwide Logistics LLC

32. Crown Run Industrial Corp.

33. De Fasteners Inc.

34. De Hui Screw Industry Co. Ltd.

35. Dolphin Logistics Co. Ltd.

36. Easylink Industrial Co., Ltd.

37. Encore Green Co. Ltd

38. Everise Global Logistics Co., Ltd.

39. Faithful Engineering Products Co., Ltd.

40. General Merchandise Consolidators, Inc.

41. Ginfa World Co. Ltd.

42. Home Value Co., Ltd.

43. Honour Lane Logistics Co.

44. International Freight Services

45. J C Grand Corporation

46. Jau Yeou Industry Co., Ltd.

47. Jinhai Hardware Co., Ltd.

48. Jinsco International Corp.

49. Jockey Ben Metal Enterprise Co. Ltd.

50. K.E. & Kingstone Co., Ltd.

51. King Compass Logistics Ltd.

52. Korea Wire Co., Ltd.

53. Kuehne + Nagel Ltd.

54. Liang's Industrial Corp.

55. Linkwell Industry Co., Ltd.

56. Maytrans International Cor.

57. MCL Multi Container Line Ltd.

58. OEC Freight Worldwide Co., Ltd.

59. Orient Express Container Co., Ltd.

60. Orient Star Transport Int'l Ltd.

61. Oriental Logistics Group Ltd.

62. OTS Forwarding (TWN) Ltd.

63. Pacific Concord International Ltd.

64. Pacific Star Express Corp.

65. Panther T & H Industry Co., Ltd.

66. PAR Excellence Industrial Co. Ltd.

67. Patek Tool Co., Limited

68. Pelican Logistics Co., Ltd.

69. PT Enterprise, Inc./Pro Team Coil Nail Enterprise Incor.

70. Pro-in Co., Ltd.

71. Quick Advance Inc.

72. Region Industries Co., Ltd.

73. Rodex Fasteners Corp.

74. Rohlig Taiwan Co., Ltd.

75. Roseter Info Trade Co., Ltd

76. RTG Logistics Ltd.

77. San Shing Fastech Corp.

78. Scanwell Container Line Ltd.

79. Scanwell Logistics (Taiwan) Ltd.

80. Schenker (H.K.) Ltd. (Taiwan Branch)

81. Se Fa Enterprise Co., Ltd.

82. Seamaster Logistics Inc. Co.

83. Shen Fong Industries Co., Ltd.

84. Shenyang Parts Industry Co., Ltd.

85. Shinn Rung Co., Ltd.

86. Shipco Transport Taiwan Co., Ltd.

87. Shun Den Iron Works Co., Ltd.

88. Sino Connections Logistics Inc.

89. Sino Global Logistics Co., Ltd.

90. Sirius Global Logistics Co. Ltd.

91. Six-2 Fastener Imports Inc.

92. Special Fastener Engineering Co., Ltd.

93. Speedier Logistics Co., Ltd.

94. Speedmark Consolidated Service, Ltd.

95. Sun Chen Fasteners Inc.

96. Sysmetal Enterprise, Co., Ltd.

97. SZU I Industries Co., Ltd.

98. T.H.I. Logistics Co. Ltd.

99. T.V.L. Container Line Ltd.

100. Tai Mao Nuts Co., Ltd.

101. Taifas Corporation

102. Taiwan Shan Yin International Co., Ltd.

103. Tang An Enterprise Co., Ltd.

104. Team Builder Enterprise Ltd.

105. Techart Mechanical Corporation

106. Test-Rite Int'l Co., Ltd.

107. The Ultimate Freight Management Ltd.

108. TJN International Ltd.

109. Toll Global Forwarding Ltd.

110. Tong HWEI Enterprise Co., Ltd.

111. Trans Wagon Int'l Co., Ltd.

112. Trans-Top Enterprise Co., Ltd.

113. Transwell Logistics Co. Ltd.

114. TSI Translink Taiwan Co. Ltd.

115. UC Freight Forwarding Co., Ltd.

116. Uni-Protech Industrial Co., Ltd.

117. Unicatch Industrial Co., Ltd.

118. Unistrong Industrial Co., Ltd.

119. Universal Power Shipping Ltd.

120. UPS Supply Chain Solutions Co., Ltd.

121. Wa Tai Industrial Co., Ltd.

122. Wanda International Logistics Co., Ltd.

123. Well-Source Connection Co., Ltd.

124. Whale Logistics Co., Ltd.

125. Wier I Industry Co., Ltd.

126. Win Fastener Corp.

127. Wyser International Corp.

128. Yeong Ming Steel Iron Co., Ltd.

129. Yeou Cherng Industrial Co., Ltd.

130. Yu Chi Taiwan Enterprise Co., Ltd.

[FR Doc. 2020-22808 Filed 10-14-20; 8:45 am]

BILLING CODE 3510-DS-P